ELECTION ASSISTANCE COMMISSION

Information Collection Activity; Alternative Voting Methods Study

AGENCY: U.S. Election Assistance Commission (EAC).

ACTION: Notice and request for comments.

SUMMARY: The U.S. Election Assistance Commission has submitted the following information collection request to the Office of Management and Budget (OMB) for review and clearance in accordance with the Paperwork Reduction Act of 1995. The information collection was previously published in the Federal Register on January 9, 2007, at 72 FR 962. The notice allowed for a 60-day public comment period. Only one comment was received on this information collection during that time period; no substantive changes were made to the information collection instrument. The purpose of this notice is to allow an additional 30 days for public comments. Comments are encouraged and will be accepted until June 18, 2007. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before June 18, 2007.

ADDRESSES: Written comments and recommendations on the proposed information collection should be sent to:

OMB Reviewer: Alexander T. Hunt, Office of Management and Budget, Room 10235, New Executive Office Building, Washington, DC 20503, (202) 395-7316.

FOR FURTHER INFORMATION CONTACT: To request more information on this proposed information collection or to obtain a copy of the proposal and associated collection instruments, please, write to the above address or call Ms. Karen Lynn-Dyson at (202) 566-3100.

SUPPLEMENTARY INFORMATION: Title: Alternative Voting Methods Study.

OMB Number: Pending.

Type of Review: Regular submission.

Needs and Uses: Section 241 of the Help America Vote Act (HAVA) requires the U.S. Election Assistance Commission (EAC) to periodically study election administration issues with the goal of promoting voting methods and improving election administration. HAVA Section 241(b)(10) instructs the EAC to study the feasibility and advisability of conducting elections for Federal office on different days, at different places, and during different hours. The study should include a discussion of the advisability of establishing a uniform poll closing time and establishing:

(A) A legal public holiday under section 6103 of title 5 United States Code, as the date on which general elections for Federal office are held;

(B) The Tuesday after the 1st Monday in November, in every even numbered year, as a legal public holiday under such section;

(C) A date other than the Tuesday next after the 1st Monday in November, in every even numbered year as the date on which general elections for Federal office are held; and

(D) Any date described in subparagraph (C) as a legal public holiday under such section.

To provide information to the States and the Congress on the feasibility and advisability of using alternative days, times, and places to conduct Federal elections, the EAC seeks to survey voters to better understand their motivations and perceptions of impediments to voting. The survey will provide insights into the public's perceptions of particular aspects of the voting process.

Affected Public: U.S. citizens and residents of Puerto Rico.

Number of Respondents: 3,000.

Responses per Respondent: 1.

Estimated Burden Per Response: .25 hours.

Estimated Total Annual Burden Hours: 750.

Frequency: Once.

Information will be collected through a statistically valid survey of 3,000 U.S. citizens and residents of Puerto Rico to determine how they either do respond to alternative voting methods (if in a state that offers them) or would respond to alternative voting methods (if in a state that does not allow them). This survey will be representative of the 50 U.S. states and Puerto Rico. The topics that will be explored include, but are not limited to:

a. Voting by mail.

b. Voting at consolidated polling center.

c. Voting online.

d. Voting earlier/later on Election Day.

e. Voting on weekend day.

f. Voting on day other than first Tuesday in November.

g. Making the day on which Federal elections are held a Federal holiday.

h. No alternative voting method, prefer status quo.

The survey will gather data regarding each respondent's background. Background information will include, but is not limited to: (1) Respondents' voter registration history, (2) respondents' voting history, and (3) standard demographic questions covering age, ethnicity, education, employment status, and income bracket.

Thomas R. Wilkey,
Executive Director, U.S. Election Assistance Commission.

[FR Doc. 07-2464 Filed 5-17-07; 8:45 am]

BILLING CODE 6820-KF-M